DEPARTMENT OF THE INTERIOR

[FWS-R4-FHC-2015-N160; FVHC98210408710-XXX-FF04G01000]

Deepwater Horizon Oil Spill; Final Phase IV Early Restoration Plan and Environmental Assessments

AGENCY: Interior.

ACTION: Notice of availability.

SUMMARY: In accordance with the Oil Pollution Act of 1990 (OPA), the National Environmental Policy Act (NEPA), and the Framework Agreement for Early Restoration Addressing Injuries Resulting from the Deepwater Horizon Oil Spill, notice is hereby given that the Federal and State natural resource trustee agencies (Trustees) have approved the Phase IV Early Restoration Plan and Environmental Assessments (Phase IV ERP/EAs). The Trustees have selected 10 early restoration projects in the Phase IV ERP/EAs that are consistent with the early restoration program alternatives selected in the final Phase III Early Restoration Plan/Programmatic Environmental Impact Statement (Phase III ERP/PEIS). The projects selected in the Phase IV ERP/EAs will continue the process of restoring natural resources and services injured or lost as a result of the Deepwater Horizon oil spill, which occurred on or about April 20, 2010, in the Gulf of Mexico. The Phase IV ERP/EAs also retains a notice of change and supporting analysis for one Phase III Early Restoration Project, “Enhancement of Franklin County Parks and Boat Ramps—Eastpoint Fishing Pier Improvements” that was included in the Draft Phase IV plan.

ADDRESSES: Obtaining Documents: You may download the Phase IV ERP/EAs at: http://www.gulfspillrestoration.noaa.gov or http://www.doi.gov/deepwaterhorizon. Alternatively, you may request a CD of the Phase IV ERP/EAs (see FOR FURTHER INFORMATION CONTACT). You may also view the document at any of the public facilities listed at http://www.gulfspillrestoration.noaa.gov.

FOR FURTHER INFORMATION CONTACT: Nanciann Regalado, at nanciann_regalado@fws.gov.

SUPPLEMENTARY INFORMATION:

Introduction

On or about April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest oil spill in U.S. history, discharging millions of barrels of oil over a period of 87 days. In addition, well over 1 million gallons of dispersants were applied to the waters of the spill area in an attempt to disperse the spilled oil. An undetermined amount of natural gas was also released into the environment as a result of the spill.

The Trustees are conducting the natural resource damage assessment for the Deepwater Horizon oil spill under the Oil Pollution Act 1990 (OPA; 33 U.S.C. 2701 et seq.). Pursuant to OPA, Federal and State agencies act as trustees on behalf of the public to assess natural resource injuries and losses, and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete. Pursuant to the process articulated in the Framework for Early Restoration Addressing Injuries Resulting from the Deepwater Horizon Oil Spill (Framework Agreement), the Trustees previously selected, and BP agreed to fund, a total of 54 early restoration projects, expected to cost approximately $700 million, through the Phase I Early Restoration Plan/Environmental Assessment (Phase I ERP/EA), Phase II Early Restoration Plan/Environmental Review (Phase II ERP/ER), and the Programmatic and Phase III Early Restoration Plan and Early Restoration Programmatic Environmental Impact Statement (Phase III ERP/PEIS). These plans are available at: http://www.gulfspillrestoration.noaa.gov/restoration/early-restoration/

The Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Department of Defense (DOD); ¹

¹ Although a trustee under OPA by virtue of the proximity of its facilities to the Deepwater Horizon oil spill, DOD is not a member of the Trustee Council and does not currently participate in Trustee decision making.

• U.S. Environmental Protection Agency (USEPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• For the State of Texas: Texas Parks and Wildlife Department, Texas General Land Office, and Texas Commission on Environmental Quality.

Background

On April 20, 2011, BP agreed to provide up to $1 billion toward early restoration projects in the Gulf of Mexico to address injuries to natural resources and their services caused by the Deepwater Horizon oil spill. The Framework Agreement represents a preliminary step toward the restoration of injured natural resources and their services and is intended to expedite the start of restoration in the Gulf in advance of the completion of the injury assessment process. The Framework Agreement provides a mechanism through which the Trustees and BP can work together “to commence implementation of early restoration projects that will provide meaningful benefits to accelerate restoration in the Gulf as quickly as practicable” prior to the resolution of the Trustees' natural resource damages claim. Early restoration is not intended to and does not fully address all injuries caused by the Deepwater Horizon oil spill. Restoration beyond early restoration projects will be required to fully compensate the public for natural resource losses, including recreational use losses, from the Deepwater Horizon oil spill.

The Trustees actively solicited public input on restoration project ideas through a variety of mechanisms, including public meetings, electronic communication, and creation of a Trustee-wide public Web site and database to share information and receive public project submissions. Their key objective in pursuing early restoration is to secure tangible recovery of natural resources and natural resource services for the public's benefit while the longer term process of fully assessing injury and damages is under way. The Trustees released the Phase I ERP/EA in April 2012, the Phase II ERP/ER in December 2012, and the Phase III ERP/PEIS on June 26, 2014, after public review of the draft documents. Subsequently, the Trustees approved the Phase III ERP/PEIS in a Record of Decision on October 2, 2014.

A Notice of Availability of the Draft Phase IV Early Restoration Plan and Environmental Assessments (Draft Phase IV ERP/EAs) was published in the Federal Register on May 20, 2015 (80 FR 29019). The Draft Phase IV ERP/EAs proposed an additional 10 early restoration projects consistent with the project types included within the approved early restoration programmatic alternative in the Phase III ERP/PEIS. The Trustees provided the public with 30 days to review the Draft Phase IV ERP/EAs but later extended the comment period to July 6, 2015. (80 FR 35393, June 19, 2015). During the public review period, the Trustees held public meetings in Pensacola, Florida; Mobile, Alabama; Long Beach, Mississippi; Belle Chasse, Louisiana; and in Galveston, and Corpus Christi, Texas, to facilitate public participation. The Trustees considered the public comments received, which informed the Trustees' analyses and selection of the early restoration projects in the final Phase IV ERP/EAs. A summary of the public comments received and the Trustees' responses to those comments are addressed in Chapter 15 of the final Phase IV ERP/EAs.

Overview of the Phase IV ERP/EAs

The Trustees approved 10 projects in the Phase IV ERP/EAs. The total estimated cost for these projects is $134 million. Details on the projects are provided in the Phase IV ERP/EAs. The Phase IV ERP/EAs also retains a notice of change and supporting analysis for one Phase III Early Restoration Project, “Enhancement of Franklin County Parks and Boat Ramps—Eastpoint Fishing Pier Improvements,” that was included in the Draft Phase IV plan.

These restoration projects are intended to continue the process of using early restoration funding to restore natural resources, ecological services, and recreational use services injured or lost as a result of the Deepwater Horizon oil spill. The Trustees considered hundreds of projects leading to the identification of these 10 projects and considered both ecological and recreational use restoration projects to restore injuries caused by the Deepwater Horizon oil spill, addressing both the physical and biological environment, as well as the relationship people have with the environment.

Early restoration actions are not intended to provide the full extent of restoration needed to make the public and the environment whole. The Trustees anticipate that additional early restoration projects will be proposed in the future as the early restoration process continues.

Administrative Record

The documents comprising the Administrative Record can be viewed electronically at the following location: https://www.doi.gov/deepwaterhorizon/adminrecord.

Authority

The authority of this action is the Oil Pollution Act of 1990 (33 U.S.C. 2701 et seq.) and the implementing Natural Resource Damage Assessment regulations found at 15 CFR part 990.

Cynthia K. Dohner,
DOI Authorized Official.

[FR Doc. 2015-24155 Filed 9-22-15; 8:45 am]

BILLING CODE 4310-55-P